DEPARTMENT OF TRANSPORTATION

Office of the Secretary

Notice of Applications for Certificates of Public Convenience and Necessity and Foreign Air Carrier Permits Filed Under Subpart B (Formerly Subpart Q) During the Week Ending September 19, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0286.

Date Filed: September 15, 2008.

Due Date for Answers, Conforming Applications, or Motion to Modify Scope: October 6, 2008.

Description: Application of Vision Airlines, Inc. (“Vision”) requesting an amendment to its certificate of public convenience and necessity authorizing Vision to engage in air transportation of persons, property and mail with large aircraft.

Renee V. Wright,
Program Manager, Docket Operations, Federal Register Liaison.

[FR Doc. E8-23408 Filed 10-2-08; 8:45 am]

BILLING CODE 4910-9X-P